DEPARTMENT OF DEFENSE

GENERAL SERVICES ADMINISTRATION

NATIONAL AERONAUTICS AND SPACE ADMINISTRATION

48 CFR Chapter 1

[Docket No. FAR-2025-0051, Sequence No. 2]

Federal Acquisition Regulation; Federal Acquisition Circular 2025-05; Introduction

AGENCY: Office of Federal Procurement Policy (OFPP), Office of Management and Budget; Department of Defense (DoD); General Services Administration (GSA); and National Aeronautics and Space Administration (NASA).

ACTION: Summary presentation of final rules.

SUMMARY: This document summarizes the Federal Acquisition Regulation (FAR) rules agreed to by OFPP, DoD, GSA, and NASA (collectively referred to as the Federal Acquisition Regulatory Council) in this Federal Acquisition Circular (FAC) 2025-05. A companion document, the Small Entity Compliance Guide (SECG), follows this FAC.

DATES: For effective dates see the separate documents, which follow.

ADDRESSES: The FAC, including the SECG, is available at https://www.regulations.gov.

FOR FURTHER INFORMATION CONTACT: For clarification in relation to the FAR cases listed in the table below, contact FARPolicy@gsa.gov or call 202-969-4075. For information pertaining to status or publication schedules, contact the Regulatory Secretariat Division at 202-501-4755 or GSARegSec@gsa.gov.

Rules Listed in FAC 2025-05
Item | Subject | FAR case
I | Clarification of System for Award Management Preaward Registration Requirements | 2023-018
II | Technical Amendments

SUPPLEMENTARY INFORMATION: Summaries for each FAR rule follow. For the actual revisions and/or amendments made by these FAR rules, refer to the specific item numbers and subjects set forth in the documents following these item summaries. FAC 2025-05 amends the FAR as follows:

Item I—Clarification of System for Award Management Preaward Registration Requirements (FAR Case 2023-018)

This final rule adopts, without change, an interim rule that amended the FAR to change System for Award Management preaward registration requirements. Offerors are required to be registered at the time of proposal submission and at time of award, rather than continuously in between. This change is expected to have a positive impact on small businesses who have a minor lapse in registration.

Item II—Technical Amendments

Administrative changes are made at FAR 32.907, 43.101, and 52.247-60.

William F. Clark,
Director, Office of Government-wide Acquisition Policy, Office of Acquisition Policy, Office of Government-wide Policy.
Federal Acquisition Circular (FAC) 2025-05 is issued under the authority of the Administrator for Federal Procurement Policy, the Secretary of Defense, the Administrator of General Services, and the Administrator of National Aeronautics and Space Administration.
Unless otherwise specified, all Federal Acquisition Regulation (FAR) and other directive material contained in FAC 2025-05 are effective August 7, 2025.
Mathew Blum,
Acting Administrator for Federal Procurement Policy Office of Management and Budget.
John M. Tenaglia,
Principal Director, Defense Pricing, Contracting, and Acquisition Policy, Department of Defense.
Jeffrey A. Koses,
Senior Procurement Executive/Deputy CAO, Office of Acquisition Policy, U.S. General Services Administration.
Karla Smith Jackson,
Assistant Administrator for Procurement, Senior Procurement Executive/Deputy CAO, National Aeronautics and Space Administration.

[FR Doc. 2025-14976 Filed 8-6-25; 8:45 am]

BILLING CODE 6820-EP-P